SMALL BUSINESS ADMINISTRATION

[Declaration of Disaster #3452]

State of Louisiana; Amendment # 3

In accordance with a notice received from the Federal Emergency Management Agency, dated October 31, 2002, the above numbered declaration is hereby amended to include Grant, LaSalle and Ouachita Parishes in the State of Louisiana as disaster areas due to damages caused by Hurricane Lili beginning on October 1, 2002, and continuing through October 16, 2002.

In addition, applications for economic injury loans from small businesses located in Caldwell, Jackson, Lincoln, Morehouse, Richland, Union and Winn Parishes in Louisiana may be filed until the specified date at the previously designated location. All other counties contiguous to the above named primary county have been previously declared.

All other information remains the same, i.e., the deadline for filing applications for physical damage is December 2, 2002, and for economic injury the deadline is July 3, 2003.

(Catalog of Federal Domestic Assistance Program Nos. 59002 and 59008).
Dated: November 4, 2002.
Herbert L. Mitchell,
Associate Administrator for Disaster Assistance.

[FR Doc. 02-28571 Filed 11-8-02; 8:45 am]

BILLING CODE 8025-01-P